DEPARTMENT OF ENERGY

Federal Energy Regulatory Commission

[Docket No. EC01-119-000; Docket No. EL01-91-000]

GenHoldings I, LLC, Millennium Power Partners, L.P., Athens Generating Company, L.P., Covert Generating Company, LLC, Harquahala Generating Company, LLC, Athens Generating Company, L.P.; Notice of Filing

June 25, 2001.

Take notice that on June 15, 2001, Millennium Power Partners, L.P., Athens Generating Company, L.P. (Athens), Covert Generating Company, LLC, Harquahala Generating Company, LLC (collectively, the Subsidiaries), and GenHoldings I LLC (GenHoldings) filed with the Commission: (1) A request by the Subsidiaries and GenHoldings for Commission authorization under section 203 of the Federal Power Act (FPA) for an intra-corporate reorganization whereby the Subsidiaries will become indirect, wholly-owned subsidiaries of their newly-formed affiliate, GenHoldings; and (2) a request by Athens, on behalf of the Greene County Industrial Development Agency, for the Commission to find that it is not a “public utility” under section 201(f) of the FPA.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 6, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-16373 Filed 6-28-01; 8:45 am]

BILLING CODE 6717-01-M